DEPARTMENT OF TRANSPORTATION

Federal Railroad Administration

[Waiver Petition Docket Number FRA-2004-18746]

Union Pacific Railroad Company; Notice of Public Hearing and Extension of Comment Period

On August 10, 2004, FRA published a notice in the Federal Register announcing the Union Pacific Railroad Company's (UP) request to be granted a waiver of compliance from certain provisions of the Brake System Safety Standards for Freight and Other Non-passenger Trains and Equipment; End of Train Devices, 49 CFR Part 232, Freight Car Safety Standards, 49 Part 215, and Locomotive Safety Standards, 49 Part 299. See 69 FR 48558. Specifically, UP requests relief from the requirements of § 232.205 Class I Brake Test-Initial Terminal Inspection, § 232.409 Inspection and Testing of End-of-Train, § 215.13 Pre-departure Inspection, § 229.21 Daily Inspection.

UP requests that the above provisions of the Federal regulations be waived to permit run-through trains that originate in Mexico and are interchanged with the UP at the Laredo, Texas Gateway, to operate into the interior of the United States without having to perform inspections at the U.S./Mexican border, provided that the trains receive proper inspections in Mexico by Transportacion Ferroviaria Mexicana (TFM), according to the standards prescribed in CFR Parts 232, 215, and 229. The Texas Mexican Railway (TexMex) would maintain all records required by applicable regulations for ready access on the U.S. side of the border for FRA inspections. In addition, TFM has provided written consent for FRA to conduct inspections of their facilities and inspection practices.

FRA has received comments from both the Brotherhood of Locomotive Engineers (BLE) and the Brotherhood of Railway Carmen (BRC) requesting a 90-day extension of the comment period. In addition, BLE has requested an oral public hearing. This notice grants both of these requests. However, FRA does not believe it is necessary to extend the comment period for the full 90 days, as requested. At this time, FRA is extending the comment period to one week beyond the date of the public hearing. If information received at the public hearing warrants the need to extend the comment period further, a separate notice will be published indicating such extension.

Accordingly, a public hearing is hearby set to begin at 9 a.m. on October 1, 2004 at the Federal Railroad Administration, 1120 Vermont Avenue NW., Washington, D.C. 20005, in the 7th floor conference room. Interested parties are invited to present oral statements at this hearing. The hearing will be informal and will be conducted in accordance with FRA's Rules of Practice (49 CFR Part 211.25) by a representative designated by FRA. FRA's representative will make an opening statement outlining the scope of the hearing, as well as any additional procedures for the conduct of the hearing. The hearing will be a non-adversarial proceeding in which all interested parties will be given the opportunity to express their views regarding this waiver petition without cross-examination. After all initial statements have been completed, those persons wishing to make a brief rebuttal statements will be given an opportunity to do so in the same order in which initial statements were made.

In addition, FRA is extending the comment period to October 8, 2004. All communications concerning these proceedings should identify the appropriate docket number (e.g., Waiver Petition Docket Number FRA-2004-18746) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on August 31, 2004.
Grady C. Cothen, Jr.,
Acting Associate Administrator for Safety.

[FR Doc. 04-20251 Filed 9-1-04; 2:46 pm]

BILLING CODE 4910-06-P